Title 3—

The President

Proclamation 9516 of October 6, 2016

National Manufacturing Day, 2016

By the President of the United States of America

A Proclamation

Since our earliest days, innovation has been one of the most important driving forces of the American economy, and for generations, our manufacturing industry was the ticket to a good middle-class life. Over time, developing technology has changed the way we approach manufacturing. American manufacturing lost roughly one-third of its jobs in the first decade of the new century—during the global recession—and the middle class paid the price. Despite that, in recent years, through the determination of our resilient workforce, our economy and our manufacturing industry have been on the rise. Since 2010, we have added more than 800,000 manufacturing jobs and witnessed the fastest pace of manufacturing job growth since the 1990s—and today, factories are opening doors more quickly than at any time in the past 20 years. On National Manufacturing Day, we celebrate American manufacturing and recognize our potential to remain competitive by continuing to strengthen research, development, and our manufacturing sector.

To build on this progress, we must keep America on the cutting edge of innovation and attract more high-quality manufacturing jobs for workers to fill in the 21st-century economy. We have worked to grow the jobs of tomorrow through Manufacturing USA, a national network of manufacturing hubs that bring businesses, research universities, and governments together to co-invest in the development of world-leading manufacturing technologies and capabilities. These manufacturing hubs not only enable some of the best minds in America to work together, but they also create a home for specific technology focus areas in manufacturing that attract people from around the world. Government can and should play a role in catalyzing this progress, which is why my Administration has already announced nine manufacturing hubs, with even more planned in the future. By supporting this network of global leadership in manufacturing, we are ensuring a steady stream of good jobs and pursuing the potential to fundamentally change the way we build things in America. I encourage everyone to visit www.Manufacturing.gov to learn more about the ways we have highlighted these partnerships to increase our competitiveness and advance our national manufacturing infrastructure.

The growing maker movement has played a role in encouraging manufacturing. Through our Nation of Makers initiative, we have worked to give students, entrepreneurs, and all Americans access to new technologies so they can design and build anything they can dream of. The democratization of tools required to create products has been critical for supporting entrepreneurship and has led to a renaissance of American manufacturing—and we must continue to foster the culture of making and entrepreneurship. Our economic competitiveness in domestic manufacturing depends on critical investments in science, technology, engineering, and math (STEM) education. If we make the necessary investments to help students and young people experience hands-on STEM learning, we can spark a deep interest and help them develop the passion and creativity they need to excel in the 21st-century economy.

Each year, hundreds of thousands of people observe this day by attending open houses, public tours, and career workshops. As we mark 5 years since the first National Manufacturing Day, we must inspire the next generation of workers and innovators to seek careers in manufacturing. Let us continue working to strengthen and expand the manufacturing jobs of tomorrow and ensure that opportunity for all is something we can keep making in America for generations to come.

NOW, THEREFORE, I, BARACK OBAMA, President of the United States of America, by virtue of the authority vested in me by the Constitution and the laws of the United States, do hereby proclaim October 7, 2016, as National Manufacturing Day. I call upon the people of the United States to observe this day with programs and activities that highlight the contributions of American manufacturers, and I encourage all Americans to visit a manufacturer in their local community.

IN WITNESS WHEREOF, I have hereunto set my hand this sixth day of October, in the year of our Lord two thousand sixteen, and of the Independence of the United States of America the two hundred and forty-first.

[FR Doc. 2016-24844

Filed 10-11-16; 11:15 am]

Billing code 3295-F7-P